FEDERAL MINE SAFETY AND HEALTH REVIEW COMMISSION

Sunshine Act Meeting

April 30, 2001.

TIME AND DATE: 11:15 a.m., Monday, April 30, 2001.

PLACE: Room 6005, 6th Floor, 1730 K Street, NW., Washington, DC.

STATUS: Open.

MATTERS TO BE CONSIDERED: The Commission will consider whether to postpone the May 2, 2001, Commission meeting regarding Eagle Energy, Inc., Docket No. WEVA 98-123.

No earlier announcement of the meeting was possible.

Federal Register CITATION OF PREVIOUS ANNOUNCEMENT: Vol. 66, No. 83, at 21,416, April 30, 2001.

PREVIOUSLY ANNOUNCED TIME AND DATE: 10 a.m., Wednesday, May 2, 2001.

PLACE: Room 6005, 6th Floor, 1730 K Street, NW., Washington, DC.

STATUS: Closed in Part [Pursuant to 5 U.S.C. 552b(c)(10)].

CHANGES IN MEETING: The Commission has postponed the Commission meeting to consider and act upon Eagle Energy, Inc., Docket No. WEVA 98-123, until 10 a.m., Wednesday, May 30, 2001.

CONTACT PERSON FOR MORE INFO: Jean Ellen, (202) 653-5629/(202) 708-9300 for TDD Relay/1-800-877-8339 for toll free.

Jean H. Ellen,
Chief Docket Clerk.

[FR Doc. 01-11327 Filed 5-1-01; 3:43 pm]

BILLING CODE 6735-01-M